DEPARTMENT OF LABOR

Employment and Training Administration

Investigations Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than July 18, 2002.

Interested persons are invited to submit written comments regarding the subject matter of the investigations to the Director, Division of Trade Adjustment Assistance, at the address shown below, not later than July 18, 2002.

The petitions filed in this case are available for inspection at the Office of the Director, Division of Trade Adjustment Assistance, Employment and Training Administration, U.S. Department of Labor, Room C-5311, 200 Constitution Avenue NW., Washington, DC 20210.

Signed at Washington, DC this 10th day of June, 2002.
Edward A. Tomchick,
Director, Division of Trade Adjustment Assistance.

Appendix
[Petitions instituted on 06/10/2002]
TA-W | Subject firm (petitioners) | Location | Date of petition | Product(s)
41,616 | Greenfield Industries (USWA) | Lyndonville, VT | 05/14/2002 | Taps.
41,617 | American Papermills (PACE) | Gilman, VT | 05/28/2002 | Printing Paper.
41,618 | Ethan Allen, Inc. (Comp) | Randolph, VT | 05/29/2002 | Furniture.
41,619 | Ube Automotive (UAW) | Mason, OH | 05/29/2002 | Aluminum Wheels.
41,620 | Atofina Chemicals, Inc. (Wrks) | Wichita, KS | 05/13/2002 | RZZ Refrigerant.
41,621 | Gorham Manufacturing Comp) | Smithfield, RI | 05/30/2002 | Sterling Silver/Stainless Steel.
41,622 | Permagraphics, Inc. (Comp) | Eugene, OR | 05/28/2002 | Window Stickers.
41,623 | DeCrane Aircraft Seating (Wrks) | Marinette, WI | 05/24/2002 | Medical Equipment.
41,624 | ADC Telecommunications Wrks) | Shakopee, MN | 05/30/2002 | Fiber Optic Cables.
41,625 | InSystem Technologies (Wrks) | Roanoke, VA | 05/02/2002 | Software Sales Support.
41,626 | Sitel Corp. (Wrks) | Longview, TX | 05/09/2002 | Customer Care Center.
41,627 | Moltrup Steel Co (Wrks) | Beaver Falls, PA | 05/17/2002 | Steel Bars.
41,628 | Darco Kentucky (Comp) | Louisville, KY | 05/20/2002 | Orthopedic Softgoods.
41,629 | Standard Steel (Wrks) | Burnham, PA | 05/22/2002 | Forged Railway Wheels.
41,630 | Metokote Corp. (Wrks) | Loudon, TN | 05/07/2002 | Upper and Lower Links, Buckets.
41,631 | Smiths-Aerospace (Comp) | Malvern, PA | 05/13/2002 | Facility Products.
41,632 | Tecknit, Inc. (Comp) | Cranford, NJ | 05/01/2002 | O-Rings, Fingerstock, Wire Mesh.
41,633 | Specialty Machine Co (Comp) | Gastonia, NC | 05/17/2002 | Tool and Die Parts.
41,634 | Ansell Protective Product (Wrks) | Coshocton, OH | 05/17/2002 | Industrial Gloves.
41,635 | T and J Personal Services (Comp) | Clearfield, PA | 05/14/2002 | Janitorial Services.
41,636 | Invensys, Inc-Foxboro Co. (Comp) | Foxboro, MA | 05/03/2002 | Cable Assemblies.
41,637 | Jones Apparel Group (Wrks) | Rural Hall, NC | 04/30/2002 | Clothes.
41,638 | Glenn Enterprises, Inc (Wrks) | Sulligent, AL | 05/14/2002 | Ladies/Men's Casual Pants.
41,639 | Sony Electronics (Wrks) | San Diego, CA | 05/10/2002 | Television and Computer Monitors.
41,640 | Halmode Apparel, Inc. (Comp) | Roanoke, VA | 05/15/2002 | Ladies Apparel.
41,641 | Southwest Cupid (Comp) | Bristow, OK | 05/29/2002 | Ladies Undergarments.
41,642 | Parksley Apparel (Comp) | Parksley, VA | 05/24/2002 | Ladies' Blouses.
41,643 | JD Holding Co., Inc. (Wrks) | Springport, MI | 05/29/2002 | Automatic Brake Systems.
41,644 | Lear Corp Marlette (UAW) | Marlette, MI | 05/31/2002 | Headliners & Sunvisors.

[FR Doc. 02-16976 Filed 7-05-02; 8:45 am]

BILLING CODE 4510-30-M